DEPARTMENT OF TRANSPORTATION

Federal Aviation Administration

14 CFR Part 39

[Docket No. FAA-2010-0711; Directorate Identifier 2008-SW-25-AD]

RIN 2120-AA64

Airworthiness Directives; Robinson Helicopter Company (Robinson) Model R22, R22 Alpha, R22 Beta, and R22 Mariner Helicopters, and Model R44, and R44 II Helicopters

AGENCY: Federal Aviation Administration, DOT.

ACTION: Notice of proposed rulemaking (NPRM).

SUMMARY: This document proposes adopting a new airworthiness directive (AD) for Robinson Model R22, R22 Alpha, R22 Beta, and R22 Mariner helicopters, and Model R44 and R44 II helicopters. The AD would require visually inspecting each tail rotor (T/R) control pedal bearing block support (support) for a crack, measuring the thickness of each uncracked support, installing support safety tabs on certain supports, and replacing supports of a certain thickness during overhaul. This proposal is prompted by two reports of Model R22 helicopters experiencing broken supports during flight, which resulted in the T/R control pedals becoming jammed. The actions specified by the proposed AD are intended to prevent the supports from breaking, which can bind the T/R control pedals, resulting in a reduction of yaw control and subsequent loss of control of the helicopter.

DATES: Comments must be received on or before September 13, 2010.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Robinson Helicopter Company, 2901 Airport Drive, Torrance, California 90505, telephone (310) 539-0508, fax (310) 539-5198.

FOR FURTHER INFORMATION CONTACT: Eric D. Schrieber, Aviation Safety Engineer, telephone (562) 627-5348, fax (562) 627-5210, regarding Robinson Model R22 helicopters, or Fred Guerin, Aviation Safety Engineer, telephone (562) 627-5232, fax (562) 627-5210, regarding Robinson Model R44 helicopters, at the FAA, Los Angeles Aircraft Certification Office, Airframe Branch, 3960 Paramount Blvd., Lakewood, California 90712.

SUPPLEMENTARY INFORMATION:

Comments Invited

We invite you to submit any written data, views, or arguments regarding this proposed AD. Send your comments to the address listed under the caption ADDRESSES. Include the docket number “FAA-2010-0711, Directorate Identifier 2008-SW-25-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for Robinson Model R22, R22 Alpha, R22 Beta, and R22 Mariner helicopters, serial numbers (S/N) 0002 through 3325, that have more than 2,200 hours total time-in-service (TIS); and Model R44 and R44 II helicopters, S/N 0001 through 1200, that have more than 2,200 hours total TIS. The AD would require, within 100 hours TIS, visually inspecting both A359-1 and A359-2 supports for a crack and replacing any cracked or broken support before further flight, and if not cracked, measuring the thickness of both supports and if less than 0.050-inch thick, installing support safety tabs, and at the next 2,200 hour TIS overhaul, replacing any support that is less than 0.050-inch thick with a support that is at least 0.050-inch thick. This proposal is prompted by two reports of Model R22 helicopters with more than 7,000 hours TIS, with supports made from 0.040-inch thick sheet metal, experiencing broken supports during flight, which led to the T/R control pedals becoming jammed, resulting in hard landings and damage to the helicopters. The actions specified by the proposed AD are intended to prevent the supports from breaking, which can bind the T/R control pedals, resulting in a reduction of yaw control and subsequent loss of control of the helicopter.

We have reviewed Robinson Helicopter Company Service Bulletin SB-63 and SB-97, both dated February 22, 2008, which describe procedures for inspecting both supports for a crack, and if no crack is found, measuring each support and installing safety tabs on supports that are less than 0.050-inch thick, and at the next 2,200 hour TIS overhaul, replacing certain supports.

This unsafe condition is likely to exist or develop on other helicopters of the same type design. The actions would be required to be accomplished by following specified portions of the service bulletins described previously.

This proposed AD would affect 4,524 helicopters of U.S. registry, and proposed actions would take approximately 0.5 work hour to inspect and measure the supports. We estimate that 2,050 helicopters would require an additional 1 work hour to install both safety tabs; 6 work hours to replace both supports if cracked or broken or before overhaul, or 3 work hours to replace both supports as part of a 2,200 hours TIS overhaul, at an average labor rate of $85 per work hour. Required parts would cost approximately $20 per support if replacement is required. Based on these figures, the total cost impact of the proposed AD on U.S. operators would be $1,101,830, assuming 1,538 (approximately 75% of the 2,050 helicopters) have both supports replaced during overhaul, and 512 helicopters (approximately 25% of the 2,050 helicopters) have both supports replaced before the next 2,200 hours TIS overhaul.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. is not a “significant rule” under the DOT Regulatory Policies and Procedures (44 FR 11034, February 26, 1979); and

3. will not have a significant economic impact, positive or negative, on a substantial number of small entities under the criteria of the Regulatory Flexibility Act.

We prepared a draft economic evaluation of the estimated costs to comply with this proposed AD. See the AD docket to examine the draft economic evaluation.

Authority for this Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Robinson Helicopter Company: Docket No. FAA-2010-0711; Directorate Identifier 2008-SW-25-AD.

Applicability: Model R22, R22 Alpha, R22 Beta, and R22 Mariner helicopters, serial numbers (S/N) 0002 through 3325, that have more than 2,200 hours total time-in-service (TIS); and Model R44 and R44 II helicopters, S/N 0001 through 1200, that have more than 2,200 hours total TIS, certificated in any category.

Compliance: Required as indicated, unless accomplished previously.

To prevent the tail rotor (T/R) control pedal bearing block support (support) from breaking, which can bind the T/R control pedals, resulting in a reduction of yaw control and subsequent loss of control of the helicopter, accomplish the following:

(a) Within 100 hours TIS, visually inspect each A359-1 (left) and A359-2 (right) pedal support for a crack by referring to the figure in Robinson Helicopter Company (Robinson) Service Bulletin SB-97, dated February 22, 2008 (SB-97) for all Model R22 helicopters, and Robinson Service Bulletin SB-63, dated February 22, 2008 (SB-63) for all Model R44 helicopters.

(1) If you find a crack in a support, before further flight, replace the cracked support with an airworthy support that is at least 0.050-inch thick.

(2) For each uncracked support, measure the thickness of the support. If the support is less than 0.050-inch thick, before further flight, install a safety tab on the support in accordance with steps 4 and 5 of the Compliance Procedures section in SB-97 or SB-63, as appropriate for your model helicopter.

(b) At the next 2,200 hours TIS overhaul, replace any support that is less than 0.050-inch thick, with an airworthy support that is at least 0.050-inch thick.

(c) To request a different method of compliance or a different compliance time for this AD, follow the procedures in 14 CFR 39.19. Contact the Manager, Los Angeles Aircraft Certification Office, FAA, ATTN: Eric D. Schrieber, Aviation Safety Engineer, 3960 Paramount Blvd., Lakewood, California 90712, telephone (562) 627-5348, fax (562) 627-5210 (regarding Model R22 helicopters); or ATTN: Fred Guerin, Aviation Safety Engineer, telephone (562) 627-5232, fax (562) 627-5210 (regarding Model R44 helicopters) for information about previously approved alternative methods of compliance.

Issued in Fort Worth, Texas, on July 6, 2010.
Mark R. Schilling,
Acting Manager, Rotorcraft Directorate, Aircraft Certification Service.

[FR Doc. 2010-17283 Filed 7-14-10; 8:45 am]

BILLING CODE 4910-13-P